DEPARTMENT OF COMMERCE

International Trade Administration

[A-570-822]

Helical Spring Lock Washers From the People's Republic of China: Amended Final Results of Antidumping Duty Administrative Review; 2012-2013

AGENCY: Enforcement and Compliance, International Trade Administration, Department of Commerce.

SUMMARY: The Department of Commerce (Department) is amending the final results of the administrative review of the antidumping duty order on certain helical spring lock washers (HSLW) from the People's Republic of China (PRC) ¹ to correct a ministerial error. The period of review (POR) is October 1, 2012, through September 30, 2013.

¹ See Helical Spring Lock Washers from the People's Republic of China: Final Results of Antidumping Duty Administrative Review; 2012-2013, 80 FR 13833 (March 17, 2015) (Final Results) and accompanying “Issues and Decision Memorandum for the Final Results of Antidumping Duty Administrative Review: Helical Spring Lock Washers from the People's Republic of China; 2012-2013” (Issues and Decision Memorandum).

DATES: Effective Date: April 17, 2015.

FOR FURTHER INFORMATION CONTACT: Sergio Balbontin, AD/CVD Operations, Office I, Enforcement and Compliance, International Trade Administration, U.S. Department of Commerce, 14th Street and Constitution Avenue NW., Washington, DC 20230; telephone 202-482-6478.

SUPPLEMENTARY INFORMATION:

Background

On March 9, 2015, the Department disclosed to interested parties its calculations for the Final Results.² On March 16, 2015 we received a ministerial error allegation from Jiangsu RC Import & Export Co., Ltd. (Jiangsu RC).³

² See Memorandum, “Final Results of the Eighteenth Administrative Review of Helical Spring Lock Washers from the People's Republic of China: Analysis of the Preliminary Results Margin Calculation for Jiangsu RC Import & Export Co., Ltd.” dated March 9, 2015 (Calculation Memorandum).

³ See letter from Jiangsu RC, “RC Final Results Ministerial Error Comments: Antidumping Duty Order on Helical Spring Lock Washers from the People's Republic of China” dated March 16, 2015.

Scope of the Order

The merchandise subject to the order are HSLWs. The product is currently classified under subheading 7318.21.0000, 7318.21.0030, and 7318.21.0090 of the Harmonized Tariff Schedule of the United States (HTSUS). Although the HTSUS subheadings are provided for convenience and customs purposes, the written product description is dispositive. A full description of the scope of the order is contained in the Issues and Decision Memorandum.⁴

⁴ See Issues and Decision Memorandum.

Ministerial Error

Section 751(h) of the Tariff Act of 1930, as amended (Act), and 19 CFR 351.224(f) define a “ministerial error” as an error “in addition, subtraction, or other arithmetic function, clerical error resulting from inaccurate copying, duplication, or the like, and any similar type of unintentional error which the Secretary considers ministerial.” We have analyzed Jiangsu RC's ministerial error comments and have determined, in accordance with section 751(h) of the Act and 19 CFR 351.224(e), that we made ministerial errors in our calculations for the Final Results. For the Final Results, the Department identified and valued five labor inputs to use in calculating the surrogate value for Jiangsu RC.⁵ In calculating the surrogate value, the Department inadvertently double-counted two of these five labor inputs.⁶

⁵ See Calculation Memorandum at Attachment I.

⁶ Id.

In accordance with section 751(h) of the Act and 19 CFR 351.224(e), we are amending the Final Results. The revised weighted-average dumping margins are detailed below.

Amended Final Results of Review

As a result of correcting this ministerial error, we determine that the following weighted-average dumping margins exist for the POR: ⁷

⁷ See memoranda, “Decision Memorandum for the Amended Final Results of Antidumping Duty Administrative Review; 2012-2013” and “Calculation Memorandum for the Amended Final Results of Antidumping Duty Administrative Review; 2012-2013” dated concurrently with this Notice.

Exporter | Weighted-average dumping margin (percent)
Jiangsu RC Import & Export Co., Ltd | 189.81
PRC-wide Rate | 189.81

Disclosure

We will disclose the calculations performed for these amended final results to interested parties within five days of the date of publication of this notice in accordance with 19 CFR 351.224(b).

Assessment Rates

Pursuant to section 751(a)(2)(A) of the Act and 19 CFR 351.212(b), the Department shall determine, and U.S. Customs and Border Protection (CBP) shall assess, antidumping duties on all appropriate entries covered by this review. For customers or importers of Jiangsu RC for which we do not have entered value, we calculated customer-/importer-specific antidumping duty assessment amounts based on the ratio of the total amount of dumping duties calculated for the examined sales of subject merchandise to the total sales quantity of those same sales. For customers or importers of Jiangsu RC for which we received entered-value information, we have calculated customer/importer-specific antidumping duty assessment rates based on customer/importer-specific ad valorem rates in accordance with 19 CFR 351.212(b)(1).

The Department announced a refinement to its assessment practice in NME cases. Pursuant to this refinement in practice, for entries that were not reported in the U.S. sales databases submitted by companies individually examined during this review, including, in this case, Suzhou Guoxin Group Wang Shun Imp. and Exp. Co., Ltd. (Guoxin) and Winnsen Industry Co., Ltd. (Winnsen), the Department will instruct CBP to liquidate such entries at the revised PRC-wide rate of 189.81 percent.⁸ In addition, for companies for which the Department determined that the exporter under review had no shipments of the subject merchandise, any suspended entries that entered under that exporter's case number (i.e., at that exporter's rate) will be liquidated at the PRC-wide rate. We intend to issue assessment instructions to CBP 15 days after the date of publication of these amended final results of review.

⁸ The Department determined that Guoxin is not eligible for a separate rate and that Winnsen, whose request for a review was timely withdrawn, had not been assigned a separate rate.

Notification

This notice serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

These amended final results of review are issued and published in accordance with section 751(h) of the Tariff Act of 1930 Act and 19 CFR 351.224(f).

Dated: April 10, 2015.
Ronald K. Lorentzen,
Acting Assistant Secretary for Enforcement and Compliance.

[FR Doc. 2015-08894 Filed 4-16-15; 8:45 am]

BILLING CODE 3510-DS-P